DEPARTMENT OF TRANSPORTATION

Research and Special Programs Administration

49 CFR Part 192

[Docket No. RSPA-98-4470]

Pipeline Safety: Meeting of the Technical Pipeline Safety Standards Advisory Committee

AGENCY: Office of Pipeline Safety, Research and Special Programs Administration, DOT.

ACTION: Meeting of Gas Technical Advisory Committee.

SUMMARY: The Research and Special Programs Administration's (RSPA) Office of Pipeline Safety (OPS) will convene a meeting of the Technical Pipeline Safety Standards Committee (TPSSC) to discuss and vote on the cost-benefit analysis for the Notice of Proposed Rulemaking, “Pipeline Integrity Management for Gas Transmission Pipelines in High Consequence Areas” (68 FR 4278) and discuss and vote on recommended guidance on how to clarify, in the final rule, the process of identifying certain sites as high consequence areas. RSPA/OPS will brief the TPSSC on the Department of Transportation's conceptual framework for a five-year research and development program to ensure the integrity of pipeline facilities as required by Section 12 of the Pipeline Safety Improvement Act of 2002. RSPA/OPS staff will also brief the Committee and request their advice on a possible rulemaking to update the gas pipeline operator personnel qualification regulation.

DATES: The meeting will be held on Thursday, July 31, 2003, from 10 a.m. to 12 Noon. Advisory Committee members will participate via telephone conference call.

ADDRESSES: Members of the public may attend the meeting in room 4236 at the U.S. Department of Transportation, 400 Seventh Street, SW., Washington, DC.

An opportunity will be provided for the public to make short statements on the topics under discussion. Anyone wishing to make an oral statement should notify Jean Milam, (202) 493-0967, not later than July 18, 2003, on the topic of the statement and the length of the presentation. The presiding officer at the meeting may deny any request to present an oral statement and may limit the time of any presentation.

You may submit written comments by mail or deliver to the Dockets Facility, U.S. Department of Transportation (DOT), Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should reference docket number RSPA-98-4470. Anyone who would like confirmation of mailed comments must include a self-addressed stamped postcard.

You may search the electronic form of all comments received into any of our dockets by the name of the individual submitting the comment (or signing the comment, if submitted on behalf of an association, business, labor union, etc.). You may review DOT's complete Privacy Act Statement in the Federal Register published on April 11, 2000 (Volume 65, Number 70; pages 19477-78) or you may visit http://dms.dot.gov.

FOR FURTHER INFORMATION CONTACT: Cheryl Whetsel, OPS, (202) 366-4431 or Richard Huriaux, OPS, (202) 366-4565, regarding the subject matter of this document.

For information on facilities or services for individuals with disabilities or to request special assistance at the meeting, contact Jean Milam at (202) 493-0967.

SUPPLEMENTARY INFORMATION: The agenda for this meeting of the TPSSC will include:

1. A vote on the gas integrity management rule cost-benefit analysis.

2. A discussion and vote on recommended guidance on how to clarify, in the final rule, the process of identifying certain sites as high consequence areas.

3. A briefing and request for Committee input on the conceptual framework of our five-year research and development plan.

4. A briefing and request for advice on a possible rule change to the gas pipeline operator qualification regulation.

5. Further discussion and vote on a notice of proposed rulemaking on liquefied natural gas facilities published May 1, 2003 (68 FR 23272).

The TPSSC is a statutorily mandated advisory committee that advises RSPA/OPS on proposed safety standards for gas pipelines. The advisory committee is constituted in accordance with section 10(a)(2) of the Federal Advisory Committee Act (Pub. L. 92-463, 5 U.S.C. App. 1). The committee consists of 15 members—five each representing government, industry, and the public. The TPSSC is tasked with determining reasonableness, cost-effectiveness, and practicability of proposed pipeline regulations.

Federal law requires that RSPA/OPS submit cost-benefit analyses and risk assessment information on proposed safety standards to the advisory committees. The TPSSC evaluates the merits of the data and methods used within the analyses and provides recommendations relating to the cost-benefit analyses.

Authority: 49 U.S.C. 60102, 60115.

Issued in Washington, DC on July 9, 2003.
Stacey L. Gerard,
Associate Administrator for Pipeline Safety.

[FR Doc. 03-17722 Filed 7-14-03; 8:45 am]

BILLING CODE 4910-60-P